DEPARTMENT OF ENERGY

Federal Energy Regulatory Commission

[Project No. 2100]

California Department of Water Resources; Notice of Authorization for Continued Project Operation

February 1, 2007.

On January 26, 2005, the California Department of Water Resources, licensee for the Feather River Hydroelectric Project, filed an application for a new or subsequent license pursuant to the Federal Power Act (FPA) and the Commission's regulations thereunder. The Feather River Project is located on the Feather River near Oroville, California.

The license for Project No. 2100 was issued for a period ending January 31, 2007. Section 15(a)(1) of the FPA, 16 U.S.C. 808(a)(1), requires the Commission, at the expiration of a license term, to issue from year-to-year an annual license to the then licensee under the terms and conditions of the prior license until a new license is issued, or the project is otherwise disposed of as provided in section 15 or any other applicable Section of the FPA.

Notice is hereby given that an annual license for Project No. 2100 is issued to the California Department of Water Resources for a period effective February 1, 2007 through January 31, 2008, or until the issuance of a new license for the project or other disposition under the FPA, whichever comes first. If issuance of a new license (or other disposition) does not take place on or before January 31, 2008, notice is hereby given that, pursuant to 18 CFR 16.18(c), an annual license under section 15(a)(1) of the FPA is renewed automatically without further order or notice by the Commission, unless the Commission orders otherwise.

Magalie R. Salas,
Secretary.

[FR Doc. E7-2016 Filed 2-6-07; 8:45 am]

BILLING CODE 6717-01-P